DEPARTMENT OF THE INTERIOR

National Park Service

National Register of Historic Places; Notification of Pending Nominations and Related Actions

Nominations for the following properties being considered for listing or related actions in the National Register were received by the National Park Service before July 30, 2005.

Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by August 29, 2005.

John W. Roberts,
Acting Chief, National Register/National Historic Landmarks Program.

ALABAMA

Talladega County

Corner, B.B., Memorial Library, 711 N. Broadway Ave., Sylacauga, 05000972

IOWA

Cerro Gordo County

Mason City Downtown Historic District, Roughly bounded by N. 46th St., Georgia Ave., Washington Ave. and S. 2nd St., Mason City, 05000956

KANSAS

Lane County

Lane County Community High School, (Public Schools of Kansas MPS) 200 S. Wichita Ave., Dighton, 05000978

Leavenworth County

Caenen Site, (Prehistoric Sites of Stranger Creek Basin, Kansas MPS) Address Restricted, Tongonoxie, 05000973

Paul Site, (Prehistoric Sites of Stranger Creek Basin, Kansas MPS) Address Restricted, Tonganoxie, 05000977

Logan County

Winona Consolidated School, (Public Schools of Kansas MPS) Jct. of Wilson and 5th St., Winona, 05000975

Neosho County

Osage Mission Infirmary, 325 Main St., St. Paul, 05000976

Wyandotte County

Sumner High School and Athletic Field, (Public Schools of Kansas MPS) 1610 N. 8th St., Kansas City, 05000974

LOUISIANA

Catahoula Parish

Caney Mounds, Address Restricted, Jonesville, 05000986

St. James Parish, St. Joseph Plantation House, (Louisiana's French Creole Architecture MPS) 3535 LA 18, Vacherie, 05000987

MICHIGAN

Benzie County

Frankfort North Breakwater Light, (Light Stations of the United States MPS) North breakwater offshore end, 0.4 mi. SW of Main St. and Michigan Ave., Frankfort, 05000983

Cheboygan County

Poe Reef Light Station, (Light Stations of the United States MPS) Lake Huron, 2.6 mi. NW of Cordwood Point, Benton Township, 05000985

Delta County

Poverty Island Light Station, (Light Stations of the United States MPS) NW Lake Michigan, 5.8 mi. S of Garden Peninsula at Fairport, Fairbanks Township, 05000984

Leelanau County

North Manitou Shoal Light Station, (Light Stations of the United States MPS) NE Lake Michigan, approx. 3 mi. SE of North Manitou Island, Leland Township, 05000981

Mackinac County

Lansing Shoals Light Station, (Light Stations of the United States MPS) NE Lake Michigan, 6.3 mi. SE of Point Patterson, Newton Township, 05000979

Mason County

Ludington North Breakwater Light, (Light Stations of the United States MPS) North Breakwater offshore end, 0.5 mi. W of Ludington Ave. at M-116, Ludington, 05000982

Schoolcraft County

Manistique East Breakwater Light, (Light Stations of the United States MPS) at offshore end of east breakwater, approx. 1,800 ft. from shore, Manistique, 05000980

MISSOURI

Laclede County

Knight, Joe, Building, 201 W. Commercial St., Lebanon, 05000995

Marion County

Riverview Park, 2000 Harrison Hill, Hannibal, 05000998

St. Francois County

Eugene Field School, 403 Glendale St., Park Hills, 05000997

St. Louis Independent City

Missouri Electric Light and Power Co., 1906-32 Locust St., St. Louis (Indenpendent City), 05000996

NEBRASKA

Richardson County

Humboldt Commercial Historic District, W Square of 4th St. to E Square, to 3rd St., Humboldt, 05000999

NEVADA

Carson City Independent City

McKeen Motor Car #70, Nevada State Railroad Museum, Carson City, 05000968

NEW HAMPSHIRE

Cheshire County

Colony House, 104 West St., Keene, 05000969

Grafton County

Chapel of the Holy Cross, 45 Chapel Ln., Holderness, 05000971

Merrimack County

Stanley Tavern, 371 Main St., Hopkinton, 05000970

NEW JERSEY

Cape May County

Owen Coachman House, 1019 Batts Ln., Lower Township, 05000964

Mercer County

First Presbyterian Church, 120 East State St., Trenton, 05000967

Morris County

Mountain Lakes Historic District, Roughly bounded by Pocono Rd., Denville Township line, Fanny Rd., and RR Tracks, Mountain Lakes, 05000963

Somerset County

Tulipwood, 1165 Hamilton St., Somerset, 05000966

Sussex County

Crescent Theatre, 74 Main St., Borough of Sussex, 05000965

NEW YORK

Essex County

Essex County Fairgrounds, 3 Sisco St., Westport, 05000993

Monroe County

Coverdale Cobblestone House, (Cobblestone Architecture of New York State MPS), 2049 Coverdale Rd., Leicester, 05000989

New York County

Fulton—Nassau Historic District, Roughly bounded by Broadway and Park Row, Nassaue, Dutch and Willim Sts, Ann and Spruce Sts. and Liberty St., New York, 05000988

Oneida County

Wethersfield Stone Schoolhouse, NY 365, Trenton, 05000991

NEW YORK

Queens County

Trans World Airlines Flight Center, John F. Kennedy International Airport, Jamaica, 05000994

Richmond County

Seaview Hospital, 460 Brielle Ave., Staten Island, 05000992

Rockland County

Laedentown United Methodist Church, Ladentown Rd., Village of Pomona, 05000990

NORTH CAROLINA

Guilford County

Greensboro Senoir High School, (Greensboro MPS), 801 Westover Terrace, Greensboro, 05000957

Haywood County

Canton Main Street Historic District, Bounded roughly by Park St., Main St., Bridge St., and Adams St., Canton, 05000958

Quinlan, Charles and Annie, House, 274 S. Main St., Waynesville, 05000959

Hertford County

Ahoskie School, 105 N. Academy St., Ahoskie, 05000960

Johnston County

Cleveland School, 8968 Cleveland Rd., Clayton, 05000961

Madison County

Mars Hill High School, 734 Bailey St., Mars Hill, 05000962

OKLAHOMA

Cherokee County

Alston—Bedwell House, 315 N. State, Tahlequah, 05001002

Oklahoma County

Edwards Heights Historic District, Roughly bounded by NE 16th St., N. Page Ave., NE Success St. and N. Bruant Ave., ext on NE Grand Blvd., Oklahoma City, 05001003

Sieber Grocery and Apartment Hotel, 1305-1313 N. Hudson Ave., Oklahoma City, 05001001

Will Rodges Park Gardens and Arboretum, 3400-3500 NW 36th St., Oklahoma City, 05001000

WEST VIRGINIA

Grant County

Gormania Presbyterian Church, Mabis Ave., 0.1 mi. S of U.S. 50, Gormania, 05001008

Hampshire County

Hamshire County Courthouse, 66 N. High St., Romney, 05001006

Jackson County

Faber Double—Crib Barn, 1106 WV 21, Kenna, 05001007

Logan County

Battle of Blair Mountain, Spruce Fork Ridge bet. WV 17 at Blair Gap and Cty Rd. 8 at Mill Creek Gap, Logan, 05001009

Mineral County

Mineral County Courthouse, (County Courthouses of West Virginia MPS) 150 Armstrong St., Keyser, 05001005

Morgan County

Morgan County Courthouse, (County Courthouses of West Virginia MPS) 202 Fairfax St., Berkeley, 05001004

A request for REMOVAL has been made for the following resource:

NEBRASKA

Saline County

Freidell, William, House 10th and Main Sts., Dorchester, 80002461

[FR Doc. 05-15966 Filed 8-11-05; 8:45 am]

BILLING CODE 4312-51-P